DEPARTMENT OF COMMERCE

Foreign-Trade Zones Board

[B-46-2013]

Foreign-Trade Zone 61—San Juan, Puerto Rico; Authorization of Production Activity; Janssen Ortho, LLC; Subzone 61N (Pharmaceutical Products); Gurabo, Puerto Rico

On April 29, 2013, the Puerto Rico Trade and Export Company, grantee of FTZ 61, submitted a notification of proposed production activity to the Foreign-Trade Zones (FTZ) Board on behalf of Janssen Ortho, LLC, within Subzone 61N, in Gurabo, Puerto Rico.

The notification was processed in accordance with the regulations of the FTZ Board (15 CFR part 400), including notice in the Federal Register inviting public comment (78 FR 30270, 05-22-2013). The FTZ Board has determined that no further review of the activity is warranted at this time. The production activity described in the notification is authorized, subject to the FTZ Act and the Board's regulations, including Section 400.14.

Dated: February 7, 2014.
Andrew McGilvray,
Executive Secretary.

[FR Doc. 2014-03216 Filed 2-12-14; 8:45 am]

BILLING CODE 3510-DS-P